DEPARTMENT OF THE INTERIOR

Bureau of Land Management

[NV-014-2810-DU]

Notice of Availability of the Elko/Wells Resource Management Plans Proposed Fire Management Amendment, Environmental Assessment and Finding of No Significant Impact and Initiation of a 30-day Public Protest Period

AGENCY: Bureau of Land Management, Interior.

ACTION: Notice of availability and initiation of public protest period for the Elko/Wells Resource Management Plans Proposed Fire Management Amendment.

SUMMARY: The Bureau of Land Management (BLM), Elko Field Office, gives notice of the availability of a Proposed Fire Management Amendment (Amendment) to the Elko/Wells Resource Management Plans (RMPs). The document, which includes an associated Environmental Assessment (EA) and Finding of No Significant Impact (FONSI), is subject to a 30-day public protest period to the Nevada State Director by participants in the planning process. See SUPPLEMENTARY INFORMATION for filing and content requirements of a letter of protest.

The Proposed Amendment/EA/FONSI has been prepared to address current issues and provide long-term direction for fire management on lands administered by the BLM's Elko Field Office. The Elko District is located in northeastern Nevada, and includes Elko County and portions of Eureka and Lander counties.

DATES: Protests must be filed on or before December 10, 2003.

ADDRESSES: The Proposed Amendment/EA/FONSI may be obtained from the Elko Field Office at 3900 East Idaho Street, Elko, NV 89801. A protest letter must be addressed to the State Director, and be mailed to P.O. Box 12000, Reno, NV 89520-0006. For hand deliveries, the address of BLM's Nevada State Office is 1340 Financial Blvd., Reno, NV 89502-7147.

SUPPLEMENTARY INFORMATION: Planning and analysis for the Proposed Elko/Wells RMPs Fire Management Amendment and associated EA/FONSI follow regulations at 43 CFR part 1610 for the Federal Land Management and Policy Act of 1976 (43 U.S.C. 1610), and at 40 CFR part 1500-1508 for the National Environmental Policy Act of 1969, as amended (Pub. L. 91-90, 42 U.S.C. 4321 et seq.). Public scoping for preparation of the Amendment/EA was conducted in March 2000 (66 FR 20830-20831, April 25, 2001).

Amendment of the RMPs is needed due to recent above-normal wildfire seasons; concerns about critical habitat for wild horses; wildlife, and domestic livestock; implementation of the National Fire Plan; and increased interest from local publics, cooperators and interest groups. The major emphasis of the amendment is to provide a framework to:

a. Improve effectiveness of initial attack on fires that should be suppressed;

b. Increase options for vegetation management in advance of wildfires to reduce the scale, cost, and adverse impacts of large fires;

c. Minimize damage to other resources through coordinated planning in advance on suppression strategy and tactics based on each discipline involved; and

d. Lessen the impact of wildfire in habitat and public land-based sectors of the local economy (recreation, hunting, grazing);

Four alternatives for the amendment are described and analyzed in the EA. They were developed based on existing national, state, and local policy, as well as best available science and the desires of various affected interests:

Limited Suppression or Fire Use—This alternative significantly reduces the suppression response and associated costs necessary for wildfires. It assumes that most fires result in acceptable impacts on the landscape.

Full Suppression—This alternative would treat all wildfire as an undesirable event and assumes that effectiveness of initial attack is approximately 100 percent. Cost of this alternative would be highest of the considered alternatives.

Existing Management—This “no action” alternative has several elements of the first two, but places less emphasis on vegetation treatment, potential for fire use, or emerging issues for impacts on the landscape.

Proposed Action—BLM's “preferred” alternative includes a mix of management actions to increase preparedness for initial attack, treat fuels and use fire where appropriate to achieve resource benefits.

A draft Amendment/EA was provided to participants in the planning process for review and comment; this comment period ended November 15, 2002. The Proposed Amendment/EA/FONSI has been prepared based on input received.

Protest procedures in 43 CFR 1610.5-2 allow the public an opportunity to review BLM's proposed land use plan decision. Any participant in the planning process who has an interest that is or may be adversely affected may file a protest. The protester may raise only issues submitted for the record during the planning process. A letter of protest must be filed within 30 days of publication of this notice. The protest must be in writing and fulfill content requirements established in 43 CFR 1610.5-2(a)(2). The State Director must receive a protest letter as specified in the DATES and ADDRESSES sections of this notice. No extension of time to file a protest is allowed. Any letters from individuals identifying themselves as representatives or officials of organizations or businesses will be available for public inspection in their entirety upon request.

The Proposed Fire Management RMP Amendment, EA, and FONSI is available from the BLM Elko Field Office, 3900 E. Idaho St, Elko NV 89801, telephone 775-753-0200. This document is being mailed to all interested parties who have provided comments or requested they be included the mailing list for this planning effort.

FOR FURTHER INFORMATION CONTACT: Fire Management: Joe Freeland, Fire Management Officer, 775-753-0308.

Planning: Lorrie West, 775-753-0266.

David Stout,
Associate Field Manager.

[FR Doc. 03-28081 Filed 11-7-03; 8:45 am]

BILLING CODE 4310-HC-P